DEPARTMENT OF THE INTERIOR

U.S. Geological Survey

Scientific Earthquake Studies Advisory Committee

AGENCY: U.S. Geological Survey.

ACTION: Notice of Meeting.

SUMMARY: Pursuant to Public Law 106-503, the Scientific Earthquake Studies Advisory Committee (SESAC) will hold its 18th meeting. The meeting location is the U.S. Geological Survey, 345 Middlefield Road, Menlo Park, California 94025. The Committee is comprised of members from academia, industry, and State government. The Committee shall advise the Director of the U.S. Geological Survey (USGS) on matters relating to the USGS's participation in the National Earthquake Hazards Reduction Program.

The Committee will receive updates and provide guidance on Earthquake Hazards Program activities and the status of teams supported by the Program.

Meetings of the Scientific Earthquake Studies Advisory Committee are open to the public.

DATES: July 31, 2008, commencing at 8:30 a.m. and adjourning at Noon on August 1, 2008.

Contact: Dr. David Applegate, U.S. Geological Survey, MS 905, 12201 Sunrise Valley Drive, Reston, Virginia 20192, (703) 648-6714, applegate@usgs.gov.

Dated: July 13, 2008.
Suzette Kimball,
Associate Director for Geology.

[FR Doc. E8-16043 Filed 7-16-08; 8:45 am]

BILLING CODE 4311-AM-M